DEPARTMENT OF COMMERCE

National Oceanic and Atmospheric Administration

RIN 0648-XS60

Marine Mammals; Subsistence Taking of Northern Fur Seals; St. George

AGENCY: National Marine Fisheries Service (NMFS), National Oceanic and Atmospheric Administration, Commerce.

ACTION: Notice; request for comments.

SUMMARY: NMFS announces the receipt of a petition for rulemaking under the Administrative Procedure Act (APA). The Pribilof Island Community of St. George Island, Traditional Council (Council) petitioned NMFS to revise regulations governing the subsistence taking of northern fur seals to allow residents of St. George Island to take male fur seal young of the year during the fall. NMFS solicits public comments on this request.

DATES: Written comments must be received at the appropriate address or fax number by June 22, 2010.

ADDRESSES: Information related to the request for rulemaking is available on the Internet at the following address: http://www.fakr.noaa.gov/protectedresources/seals/fur.htm.

Send comments to Kaja Brix, Assistant Regional Administrator, Protected Resources Division, Alaska Region, NMFS, Attn: Ellen Sebastian. Comments may be submitted by:

• Email: furseal@noaa.gov. Include in the subject line the following document identifier: Northern Fur Seal St. George. Email comments with or without attachments are limited to 5 megabytes;

• Mail: Kaja Brix, Assistant Regional Administrator, Protected Resources Division, Alaska Region, NMFS, P.O. Box 21668, Juneau, AK 99802;

• Hand Delivery to the Federal Building: 709 West 9th Street, Room 420A, Juneau, AK; or

• Fax: 907 586 7557.

All comments received are a part of the public record. All Personal Identifying Information (e.g., name, address) voluntarily submitted by the commenter may be publicly accessible. Do not submit Confidential Business Information or otherwise sensitive or protected information.

FOR FURTHER INFORMATION CONTACT: Michael Williams, (907) 271-5006, email Michael.Williams@noaa.gov; Kaja Brix, (907) 586-7235, email Kaja.Brix@noaa.gov; or Tom Eagle, (301) 713-2322, ext. 105, email Tom.Eagle@noaa.gov.

SUPPLEMENTARY INFORMATION: The subsistence harvest of northern fur seals on the Pribilof Islands is governed by regulations established under the Fur Seal Act and MMPA in 50 CFR 216.71-74. These regulations, which were promulgated by an emergency final rule in 1986 (51 FR 24828, July 9, 1986), require NMFS to publish estimated subsistence needs every three years, limit the harvest to sub-adult male fur seals, identify specific hauling grounds from which fur seals may be taken, and establish a period between June 23 and August 8 of each year, during which fur seals may be taken for subsistence purposes. The Council submitted a resolution to NMFS requesting the agency change the regulations to allow a harvest that better meets their customary and traditional needs. NMFS considers this resolution together with subsequent reports submitted by the Council to be a formal petition for rulemaking under the APA.

In its resolution, the Council noted that the community was initially allowed by the Federal Government to take fur seal young of the year in the fall for subsistence purposes. However, the harvest of fur seal young of the year is not included in the current regulations. Accordingly, the Council requested NMFS to modify its regulations to allow the harvest of 150 male fur seal young of the year annually to meet the subsistence needs for the community of St. George Island.

Harvest reports from the Council and harvest records from the NMFS indicated the need to change other three provisions of the current subsistence harvest regulations. First, the current regulations allow harvest only from Northeast and Zapadni hauling grounds. The Council reported in their 2008 and 2009 harvest reports that sufficient numbers of sub-adult males for the harvest are not always available at the Northeast and Zapadni hauling grounds, but are likely available on other sub-adult male hauling grounds. NMFS harvest records corroborate the lack availability of sub-adult males when harvests are limited to two or fewer hauling grounds.

Second, the current regulations require the harvest to stop no later than August 8 of each year. The Council stated that traditional practices included the harvest of fur seal young of the year in the fall. Accordingly, the Council contends, a separate fall harvest season is most consistent with traditional practices and subsistence needs identified for St. George Island.

Third, the current regulations at 50 CFR 216.74 describe data collection needs and other requirements to cooperate with scientists that the Council feels are no longer applicable nor consistent with the E.O. 13175 Tribal Consultation, American Indian Native Policy of the U.S. Department of Commerce, or the comanagement agreement signed by the Council and NMFS in 2001.

The Assistant Administrator for Fisheries, NOAA, has determined that the petition contains sufficient information to enable NMFS to consider the substance of the petition. NMFS solicits public comment on the Council's request to modify regulations that govern taking fur seals for subsistence purposes by residents of St. George. NMFS is particularly interested in information that would allow an evaluation of the effects on the fur seal population of a harvest that included male young of the year in the fall, a distribution of the current sub-adult male harvest across additional hauling grounds, and a reevaluation of the requirements to cooperate with scientists interested in the subsistence harvest of northern fur seals. NMFS will consider public comments received in determining whether to proceed with the revisions of the regulations requested by the Council. Upon determining whether to initiate the requested rulemaking, the Assistant Administrator for Fisheries, NOAA, will publish in the Federal Register a note of the Agency's final disposition of the Council's petition request.

Dated: April 19, 2010.
Eric C. Schwaab,
Assistant Administrator for Fisheries, National Marine Fisheries Service.

[FR Doc. 2010-9510 Filed 4-22-10; 8:45 am]

BILLING CODE 3510-22-S